DEPARTMENT OF TRANSPORTATION

Surface Transportation Board

[STB Finance Docket No. 35247]

Grenada Railway, LLC—Acquisition and Operation Exemption—Illinois Central Railroad Company and Waterloo Railway Company

Correction

In notice document E9-12365 beginning on page 25799 in the issue of Friday, May 29, 2009, make the following correction:

On page 25800, in the first column, under DEPARTMENT OF TRANSPORTATION, in the first paragraph, lines 6-8 of the text, “603.0, at Water Valley Junction, and milepost 614.42, at Bruce Junction” should read “603.0, at Bruce Junction, and milepost 614.42, at Water Valley Junction”.

Dated: June 8, 2009.
Kulunie L. Cannon,
Clearance Clerk.

[FR Doc. E9-13746 Filed 6-10-09; 8:45 am]

BILLING CODE 4915-01-P